DEPARTMENT OF ENERGY

Federal Energy Regulatory Commission

Combined Notice of Filings #1

Take notice that the Commission received the following exempt wholesale generator filings:

Docket Numbers: EG23-286-000.

Applicants: Earp Solar, LLC.

Description: Earp Solar, LLC submits Notice of Self-Certification of Exempt Wholesale Generator Status.

Filed Date: 9/13/23.

Accession Number: 20230913-5047.

Comment Date: 5 p.m. ET 10/4/23.

Docket Numbers: EG23-287-000.

Applicants: BCD 2023 Fund 1 Lessee, LLC.

Description: BCD 2023 Fund 1 Lessee, LLC submits Notice of Self-Certification of Exempt Wholesale Generator Status.

Filed Date: 9/13/23.

Accession Number: 20230913-5049.

Comment Date: 5 p.m. ET 10/4/23.

Take notice that the Commission received the following electric rate filings:

Docket Numbers: ER22-2721-002.

Applicants: Union Electric Company.

Description: Compliance filing: Compliance Filing to be effective 9/1/2023.

Filed Date: 9/13/23.

Accession Number: 20230913-5024.

Comment Date: 5 p.m. ET 10/4/23.

Docket Numbers: ER22-2721-003.

Applicants: Union Electric Company.

Description: Compliance filing: Compliance Filing to be effective 9/1/2022.

Filed Date: 9/13/23.

Accession Number: 20230913-5085.

Comment Date: 5 p.m. ET 10/4/23.

Docket Numbers: ER23-2020-001.

Applicants: California Independent System Operator Corporation.

Description: Compliance filing: 2023-09-13 Compliance Filing—Market Parameters to be effective 9/13/2023.

Filed Date: 9/13/23.

Accession Number: 20230913-5064.

Comment Date: 5 p.m. ET 10/4/23.

Docket Numbers: ER23-2487-001.

Applicants: Midcontinent Independent System Operator, Inc., Ameren Services Company.

Description: Tariff Amendment: Midcontinent Independent System Operator, Inc. submits tariff filing per 35.17(b): 2023-09-13_Amendment Ameren Companies Request for Transmission Rate Incentives to be effective 9/25/2023.

Filed Date: 9/13/23.

Accession Number: 20230913-5082.

Comment Date: 5 p.m. ET 10/4/23.

Docket Numbers: ER23-2563-001.

Applicants: PJM Interconnection, L.L.C.

Description: Tariff Amendment: Amendment of WMPA, SA No. 7005; Queue No. AG1-099 in Docket No. ER23-2563-000 to be effective 10/4/2023.

Filed Date: 9/13/23.

Accession Number: 20230913-5072.

Comment Date: 5 p.m. ET 10/4/23.

Docket Numbers: ER23-2678-001.

Applicants: PJM Interconnection, L.L.C.

Description: Tariff Amendment: Amendment of ISA, SA No. 7041; Queue No. AE2-092 in Docket ER23-2678-000 to be effective 7/20/2023.

Filed Date: 9/13/23.

Accession Number: 20230913-5052.

Comment Date: 5 p.m. ET 10/4/23.

Docket Numbers: ER23-2824-000.

Applicants: PacifiCorp.

Description: § 205(d) Rate Filing: Ostrea Solar Affected System Project Construction Agreement to be effective 9/14/2023.

Filed Date: 9/13/23.

Accession Number: 20230913-5042.

Comment Date: 5 p.m. ET 10/4/23.

Docket Numbers: ER23-2825-000.

Applicants: Northstar Trading Ltd.

Description: Baseline eTariff Filing: NorthStar Trading Ltd. submits tariff filing per 35.12: Baseline new to be effective 9/14/2023.

Filed Date: 9/13/23.

Accession Number: 20230913-5043.

Comment Date: 5 p.m. ET 10/4/23.

Docket Numbers: ER23-2826-000.

Applicants: Sparta Northstar Ltd.

Description: Baseline eTariff Filing: Baseline new to be effective 9/14/2023.

Filed Date: 9/13/23.

Accession Number: 20230913-5044.

Comment Date: 5 p.m. ET 10/4/23.

Docket Numbers: ER23-2827-000.

Applicants: Battery Utility of Ohio, LLC.

Description: Tariff Amendment: Notice of Cancellation of Market-Based Rate Tariff and Request for Waiver to be effective 9/14/2023.

Filed Date: 9/13/23.

Accession Number: 20230913-5061.

Comment Date: 5 p.m. ET 10/4/23.

Docket Numbers: ER23-2828-000.

Applicants: Southern California Edison Company.

Description: Tariff Amendment: Termination of 5149 Lancaster Energy DSA (GFID8469/SA No. 915) to be effective 11/13/2023.

Filed Date: 9/13/23.

Accession Number: 20230913-5053.

Comment Date: 5 p.m. ET 10/4/23.

Docket Numbers: ER23-2829-000.

Applicants: Omnis Pleasants, LLC.

Description: Compliance filing: Notice of Succession and Request for Waiver to be effective 12/31/9998.

Filed Date: 9/13/23.

Accession Number: 20230913-5056.

Comment Date: 5 p.m. ET 10/4/23.

Docket Numbers: ER23-2830-000.

Applicants: WSPP Inc.

Description: § 205(d) Rate Filing: List of Members Update 2023 to be effective 9/11/2023.

Filed Date: 9/13/23.

Accession Number: 20230913-5073.

Comment Date: 5 p.m. ET 10/4/23.

Docket Numbers: ER23-2831-000.

Applicants: PJM Interconnection, L.L.C.

Description: § 205(d) Rate Filing: Designated Entity Agreement, SA No. 7061 between PJM and JCP&L to be effective 8/14/2023.

Filed Date: 9/13/23.

Accession Number: 20230913-5096.

Comment Date: 5 p.m. ET 10/4/23.

Take notice that the Commission received the following electric securities filings:

Docket Numbers: ES23-68-000.

Applicants: Old Dominion Electric Cooperative.

Description: Application Under Section 204 of the Federal Power Act for Authorization to Issue Securities of Old Dominion Electric Cooperative.

Filed Date: 9/12/23.

Accession Number: 20230912-5211.

Comment Date: 5 p.m. ET 10/3/23.

Take notice that the Commission received the following public utility holding company filings:

Docket Numbers: PH23-16-000.

Applicants: DTE Energy Company.

Description: DTE Energy Company submits FERC 65-B Notice of Change in Fact to Waiver Notification.

Filed Date: 9/13/23.

Accession Number: 20230913-5021.

Comment Date: 5 p.m. ET 10/4/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 13, 2023.
Debbie-Anne A. Reese,
Deputy Secretary.

[FR Doc. 2023-20213 Filed 9-18-23; 8:45 am]

BILLING CODE 6717-01-P